DEPARTMENT OF LABOR

Office of the Secretary

Submission for OMB Review: Comment Request

September 25, 2009.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—ETA, Office of Management and Budget, Room 10235, Washington, DC 20503, Telephone: 202-395-7316/Fax: 202-395-5806 (these are not toll-free numbers), e-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension with change of a currently approved collection.

Title of Collection: Distribution of Characteristics of the Insured Unemployed.

OMB Control Number: 1205-0009.

Agency Form Number: ETA-203.

Affected Public: State Governments.

Total Estimated Number of Respondents: 53.

Total Estimated Annual Burden Hours: 212.

Total Estimated Annual Costs Burden (does not include hour costs): $0.

Description: The ETA-203 is the only source of current, consistent demographic information (age, race/ethnic, sex, occupation, industry) on the Unemployment Insurance (UI) claimant population. These characteristics identify important claimant cohorts for legislative, economic and social planning purposes, and evaluation of the UI program on the Federal and State levels. For additional information, see related notice published at Volume 73 FR 77062 on December 18, 2008.

Agency: Employment and Training Administration.

Type of Review: Extension without change of a currently approved collection.

Title of Collection: Placement Verification and Follow-up of Job Corps Participants.

OMB Control Number: 1205-0426.

Agency Form Number: N/A.

Affected Public: Individuals or households.

Total Estimated Number of Respondents: 73,373.

Total Estimated Annual Burden Hours: 15,593.

Total Estimated Annual Costs Burden (does not include hour costs): $0.

Description: This submission requests approval of three primary and two secondary data collection instruments that will be used to collect follow-up data on individuals who have but are no longer actively participating in Job Corps. For additional information, see related notice published at Volume 74 FR 10776 on March 12, 2009.

Agency: Employment and Training Administration.

Type of Review: Extension without change of a currently approved collection.

Title of Collection: Employment and Training Administration Financial Report.

OMB Control Number: 1205-0461.

Agency Form Number: ETA-9130.

Affected Public: State, Local, and Tribal Governments.

Total Estimated Number of Respondents: 848.

Total Estimated Annual Burden Hours: 3,392.

Total Estimated Annual Costs Burden (does not include hour costs): $0.

Description: ETA utilizes the data on ETA-9130 to assess the effectiveness of ETA programs and to monitor and analyze the financial activity of its grantees. Pre-designed software is provided to the grantees to reflect the requirements of ETA Form 9130 so that the required data is reported directly into the Enterprise Information Management System (EIMS) by the grant recipients. This data collection format allows ETA to evaluate program effectiveness and to monitor and analyze financial activity, while complying with OMB efforts to streamline Federal financial reporting. The focus of all ETA reporting has been to provide ease and simplicity for the grantees. The specific instruction relating to the required data element is visible at each data entry point. Electronic financial reporting has significantly increased the timeliness of financial reporting. For additional information, see related notice published at Volume 74 FR 34592 on July 16, 2009.

Agency: Employment and Training Administration.

Type of Review: Extension without change of a currently approved collection.

Title of Collection: Recovery Act—Applications for Unemployment Insurance Modernization Incentive Payments.

OMB Control Number: 1205-0470.

Agency Form Number: N/A.

Affected Public: State Governments.

Total Estimated Number of Respondents: 36.

Total Estimated Annual Burden Hours: 288.

Total Estimated Annual Costs Burden (does not include hour costs): $0.

Description: Section 2003(f) of the American Recovery and Reinvestment Act of 2009 (ARRA) provides for unemployment insurance (UI) “modernization incentive payments” to be made from the Unemployment Trust Fund (UTF) to the states. The total amount available for all states is $7 billion dollars. To obtain its share, the state must make an application to the Department of Labor demonstrating that its UI law contains certain benefit eligibility provisions. The last date on which an incentive distribution may be made is September 30, 2011. When applying for a share of the UI modernization incentive payments, a state must document that the provisions of its law meet the requirements for obtaining an incentive payment. The state is also required to describe how it intends to use any incentive payment to improve or strengthen its UI program. . For additional information, see related notices published at Volume 74 FR 9108 on March 2, 2009 and 74 FR 23886 on May 21, 2009.

Darrin A. King,
Departmental Clearance Officer.

[FR Doc. E9-23659 Filed 9-30-09; 8:45 am]

BILLING CODE 4510-FW-P